DEPARTMENT OF THE INTERIOR

Office of Surface Mining Reclamation and Enforcement

Announcement to Extend Comment Period on the Preparation of an Environmental Impact Statement on Excess Spoil Generation and Disposal and Stream Buffer Zone Rulemaking

AGENCY: Office of Surface Mining Reclamation and Enforcement, Interior.

ACTION: Extension of comment period.

SUMMARY: We, the Office of Surface Mining Reclamation and Enforcement (OSM), are allowing additional time for the public to submit suggestions on significant issues and specific alternatives that we should consider in the planning and preparation on an environmental impact statement on the excess spoil generation and disposal and stream buffer zone rulemaking. We received multiple requests to extend the comment period by a week beyond the last public scoping meeting in order for the meeting participants to fully consider discussions within the meeting. We believe that this is reasonable request and are granting an extension of public comment period.

DATES: Electronic or written comments: We must receive your written comments by 4 p.m. eastern standard time on September 1, 2005, to ensure consideration in the preparation of the draft EIS.

ADDRESSES: You may mail or hand carry comments to: “EIS Scoping SBZ Rulemaking Comments” c/o OSM Appalachian Region, 3 Parkway Center, Pittsburgh, Pennsylvania 15220, or you may send comments via electronic mail to: SBZ-EIS@osmre.gov.

FOR FURTHER INFORMATION CONTACT: David G. Hartos, Office of Surface Mining Reclamation and Enforcement, U.S. Department of the Interior, 3 Parkway Center, Pittsburgh, PA 15220; Telephone: 412-937-2909. E-mail address: DHARTOS@OSMRE.GOV.

SUPPLEMENTARY INFORMATION: On June 16, 2005 (70 FR 35112), we published a notice of our intent to prepare an environmental impact statement (EIS) to analyze the effects of possibly revising our regulations pertaining to excess spoil generation and disposal, and stream buffer zones. We determined that the preparation of an EIS would be an appropriate mechanism to fully access alternative approaches and potential impacts of the changes proposed in the Federal Register on January 7, 2004 (69 FR 1036). We asked for the public's assistance in identifying significant issues and specific alternatives related to the proposed action. The original comment period was scheduled to close on August 15, 2005, but we are extending the comment period to the time and date list under DATES.

Dated: August 16, 2005.
Michael K. Robinson,
Acting Regional Director, Appalachian Region, Office of Surface Mining Reclamation and Enforcement.

[FR Doc. 05-16802 Filed 8-23-05; 8:45 am]

BILLING CODE 4310-05-M